DEPARTMENT OF THE INTERIOR

Fish and Wildlife Service

Endangered and Threatened Wildlife and Plants; Reopening and Widening/Expansion of a 5-Year Review of the West Indian Manatee (Trichechus manatus)

AGENCY: Fish and Wildlife Service, Interior.

ACTION: Notice; request for information.

SUMMARY: We, the U.S. Fish and Wildlife Service (Service), announce the amendment of an ongoing 5-year review of the West Indian manatee (Trichechus manatus) under section 4(c)(2)(A) of the Endangered Species Act of 1973 (Act). On April 14, 2005, we initiated a 5-year review only for the Florida manatee subpecies (Trichechus manatus latirostris) of this species. We now expand the scope of this 5-year review to include the entire species. We request that the public submit any applicable information on the West Indian manatee that has become available since its original listing. Based on the results of this 5-year review, we will make the requisite determination under section 4(c)(2)(B) of the Act.

DATES: To allow us adequate time to conduct this review, we must receive your information no later than June 13, 2006. However, we will continue to accept new information about any listed species at any time.

ADDRESSES: Submit information to the U.S. Fish and Wildlife Service, Jacksonville Ecological Services Office, 6620 Southpoint Drive South, Suite 310, Jacksonville, FL 32216. Information received in response to this notice and review will be available for public inspection, by appointment, during normal business hours, at the above address. Information may also be sent via e-mail to manatee@fws.gov.

FOR FURTHER INFORMATION CONTACT: Dawn Jennings at the above address, or at 904-232-2580, ext. 114.

SUPPLEMENTARY INFORMATION: We listed the Florida manatee (Trichechus manatus latirostris), a subspecies of the West Indian Manatee, as endangered in 1967 under the Endangered Species Preservation Act of 1966 (80 Stat. 926; 16 U.S.C. 668aa(c)). In 1970, we listed the West Indian manatee (Trichechus manatus) in our U.S. List of Endangered Foreign Fish and Wildlife by amending and adding names to the First List of Endangered Foreign Fish and Wildlife (Appendix A under 50 CFR Part 17. (35 FR 8491, June 2, 1970)). The earlier listing of the Florida manatee was incorporated into the listing of the West Indian manatee. The West Indian manatee is currently listed as an endangered species under the Act (16 U.S.C. 1531 et seq.) and the population is further protected as a depleted stock under the Marine Mammal Protection Act (16 U.S.C. 1361-1407).

Under the Act, the Service maintains a list of endangered and threatened wildlife and plant species (List) at 50 CFR 17.11 (for animals) and 17.12 (for plants). Section 4(c)(2)(A) of the Act requires that we conduct a review of listed species at least once every 5 years to ensure that the listing classification of a species is accurate. On the basis of such reviews under section 4(c)(2)(B), we determine whether or not the species should be removed from the List (delisted), or reclassified from endangered to threatened or from threatened to endangered. If we determine that a change in classification is not warranted, the West Indian manatee will remain on the List under its current status. Delisting a species must be supported by the best scientific and commercial data available and only considered if such data substantiates that the species is neither endangered nor threatened for one or more of the following reasons: (1) the species is considered extinct; (2) the species is considered to be recovered; and/or (3) the original data available when the species was listed, or the interpretation of such data, were in error. Any change in Federal classification would require a separate rulemaking process. The regulations in 50 CFR 424.21 require that we publish a notice in the Federal Register announcing those species currently under active review.

On April 14, 2005, (70 FR 19780), we initiated a 5-year review for the Florida manatee subspecies only. By this notice, we announce that we are amending and reopening this 5-year review to include the entire West Indian manatee subspecies.

Public Solicitation of New Information

To ensure that the 5-year review is complete and based on the best available scientific and commercial information, we are soliciting information from the public, concerned governmental agencies, Tribes, the scientific community, industry, environmental entities, and any other interested parties concerning the status of the manatee.

The 5-year review considers the best scientific and commercial data and all new information that has become available since the listing determination or most recent status review. Categories of requested information include (A) species biology, including but not limited to population trends, distribution, abundance, demographics, and genetics; (B) habitat conditions, including but not limited to amount, distribution, and suitability; (C) conservation measures that have been implemented that benefit the species; (D) threat status and trends; and (E) other new information, data, or corrections, including but not limited to taxonomic or nomenclatural changes, identification of erroneous information contained in the List, and improved analytical methods. Information submitted should be supported by documentation such as maps, bibliographic references, methods used to gather and analyze the data, and/or copies of any pertinent publications, reports, or letters by knowledgeable sources.

If you wish to provide information for this 5-year review, you may submit your comments and materials to the U.S. Fish and Wildlife Service's Jacksonville, Florida Ecological Services Office (see ADDRESSES). Our practice is to make comments, including names and home addresses of respondents, available for public review during regular business hours. Respondents may request that we withhold a respondent's identity, as allowable by law. If you wish us to withhold your name or address, you must state this request prominently at the beginning of your comment. We will not, however, consider anonymous comments. To the extent consistent with applicable law, we will make all submissions from organizations or businesses, and from individuals identifying themselves as representatives or officials of organizations or businesses, available for public inspection in their entirety. Comments and materials received will be available for public inspection, by appointment, during normal business hours (see ADDRESSES).

Authority

This document is published under the authority of the Endangered Species Act of 1973, as amended (16 U.S.C. 1531 et seq.).

Dated: March 2, 2006.
Cynthia K. Dohner,
Acting Regional Director, Southeast Region.

[FR Doc. E6-4280 Filed 3-23-06; 8:45 am]

BILLING CODE 4310-55-P